DEPARTMENT OF HEALTH AND HUMAN SERVICES

Centers for Disease Control and Prevention

Disease, Disability, and Injury Prevention and Control Special Emphasis Panel (SEP): The Great Lakes Human Health Effects Research Program, Program Announcement Number 04023

In accordance with Section 10(a)(2) of the Federal Advisory Committee Act (Pub. L. 92-463), the Centers for Disease Control and Prevention (CDC) announces the following meeting:

Name: Disease, Disability, and Injury Prevention and Control Special Emphasis Panel (SEP): The Great Lakes Human Health Effects Research Program, Program Announcement Number 04023.

Times and Dates: 1 p.m.-1:30 p.m., June 23, 2004 (Open); 1:30 p.m.-4:30 p.m., June 23, 2004 (Closed).

Place: National Center for Environmental Health/Agency for Toxic Substance Disease Registry, 1825 Century Boulevard, Atlanta, Georgia 30345, Teleconference Number 404.498.0632.

Status: Portions of the meeting will be closed to the public in accordance with provisions set forth in Section 552b(c)(4) and (6), Title 5 U.S.C., and the Determination of the Director, Management Analysis and Services Office, CDC, pursuant to Pub. L. 92-463.

Matters To Be Discussed: The meeting will include the review, discussion, and evaluation of applications received in response to Program Announcement Number 04023.

For Further Information Contact: J. Felix Rogers, Ph.D., M.P.H., CDC, National Center for Environmental Health/Agency for Toxic Substance Disease Registry, Office of Science, 1825 Century Boulevard, Atlanta, GA 30345, 404.498.0624.

The Director, Management Analysis and Services Office, has been delegated the authority to sign Federal Register notices pertaining to announcements of meetings and other committee management activities, for both CDC and the Agency for Toxic Substances and Disease Registry.

Dated: May 12, 2004.
Alvin Hall,
Director, Management Analysis and Services Office, Centers for Disease Control and Prevention.

[FR Doc. 04-11279 Filed 5-18-04; 8:45 am]

BILLING CODE 4163-70-P